NUCLEAR REGULATORY COMMISSION

[Docket Nos. 50-338 and 50-339]

Virginia Electric and Power Company; Notice of Withdrawal of Application for Amendments to Facility Operating Licenses

The U.S. Nuclear Regulatory Commission (the Commission) has granted the request of Virginia Electric and Power Company (the licensee) to withdraw its June 22, 2000, application, as supplemented January 19, 2001, and July 26, 2001, for proposed amendments to Facility Operating License Nos. NPF-4 and NPF-7 for the North Anna Power Station, Unit Nos. 1 and 2, located in Louisa County, Virginia.

The proposed amendments would have revised the Technical Specifications to permit the elimination of the assumed increase in the rod control cluster assembly drop time resulting from a concurrent trip and seismic event.

The Commission had previously issued a Notice of Consideration of Issuance of Amendments published in the Federal Register on August 9, 2000 (65 FR 48761). However, by letter dated July 17, 2002, the licensee withdrew the proposed change.

For further details with respect to this action, see the application for amendments dated June 22, 2000, supplemental letters dated January 19, 2001, and July 26, 2001, and the licensee's letter dated July 17, 2002, which withdrew the application for license amendments. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR reference staff by telephone at 1-800-397-4209 or 301-415-4737, or by e-mail to pdr@nrc.gov.

Dated at Rockville, Maryland, this 19th day of August 2002.
For the Nuclear Regulatory Commission.
Stephen R. Monarque,
Project Manager, Section 1, Project Directorate II, Division of Licensing Project Management, Office of Nuclear Reactor Regulation.

[FR Doc. 02-21523 Filed 8-22-02; 8:45 am]

BILLING CODE 7590-01-P